NUCLEAR REGULATORY COMMISSION

[Docket No. 99902052; NRC-2023-0143]

NuScale Power, LLC; Carbon Free Power Project, LLC; Carbon Free Power Project

AGENCY: Nuclear Regulatory Commission.

ACTION: Limited work authorization application; acceptance for docketing; request for comment.

SUMMARY: The U.S. Nuclear Regulatory Commission (NRC) has accepted for docketing a Limited Work Authorization (LWA) application submitted by Carbon Free Power Project, LLC (CFPP). CFPP plans to conduct certain early construction activities at the Idaho National Laboratory (INL) complex near Idaho Falls, Idaho for which either a construction permit or a combined license would otherwise be required.

DATES: Submit comments by November 13, 2023. Comments received after this date will be considered, if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0143. Address questions about Docket IDs to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Omid Tabatabai, Office of Nuclear Reactor Regulation, U.S. Nuclear Regulatory Commission, Washington, DC 20555-0001; telephone: 301-415-6616, email: Omid.Tabatabai@nrc.gov.

SUPPLEMENTARY INFORMATION:

I. Obtaining Information and Submitting Comments

A. Obtaining Information

Please refer to Docket ID NRC-2023-0143 when contacting the NRC about the availability of information for this action. You may obtain publicly available information related to this action by any of the following methods:

• Federal Rulemaking Website: Go to https://www.regulations.gov and search for Docket ID NRC-2023-0143.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal Rulemaking website (https://www.regulations.gov). Please include Docket ID NRC-2023-0143 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On July 31, 2023, Carbon Free Power Project, LLC (CFPP) submitted a Limited Work Authorization (LWA) application (ADAMS Package Accession No. ML23212A007) to the NRC for review and approval pursuant to part 50 of title 10 of the Code of Federal Regulation (10 CFR), “Domestic Licensing of Production and Utilization Facilities,” section 50.10(d), “Request for limited work authorization.” A related request for exemption (ADAMS Accession No. ML23212A003), was submitted by NuScale Power, LLC, on behalf of CFPP, from certain requirements in 10 CFR 50.10(c), “Requirement for construction permit, early site permit authorizing limited work authorization activities, combined license, or limited work authorization.” A notice of receipt and availability of the LWA application and the exemption request was previously published in the Federal Register on August 17, 2023 (88 FR 56054).

The NRC staff has accepted for docketing the CFPP's LWA application for detailed technical review under Docket No. 99902052. The LWA application requests authorization for CFPP to conduct certain early site construction activities for which a combined license or a construction permit would otherwise be required. The exemption request would allow CFPP to conduct certain early construction activities in advance of the LWA. The NRC staff provided CFPP notice of the staff's determination that the LWA application was acceptable for docketing by letter dated September 5, 2023 (ADAMS Accession No. ML23236A263).

Docketing of the LWA application does not preclude the NRC from requesting additional information from the applicant as the review proceeds, nor does it constitute an indication that the Commission will grant or deny the LWA application.

CFPP plans to submit a combined license application to request authorization to construct and operate a proposed nuclear power plant at the CFPP site. The nuclear power plant would consist of six small modular reactors based on the US460 NuScale Power Plant design. The NRC staff will perform a detailed technical review of the LWA application and will document its safety and environmental findings in a safety evaluation report and an environmental impact statement, respectively.

III. Opportunity to Comment

The NRC staff requests comments on the limited work authorization from Federal, State, and local agencies and interested persons, consistent with 10 CFR 2.643. Comments should be submitted by November 13, 2023, as described in the ADDRESSES section of this document.

The Commission will publish a future Federal Register notice of hearing and opportunity to petition for leave to intervene in a proceeding on the LWA application.

Dated: September 6, 2023.
For the Nuclear Regulatory Commission.
Omid Tabatabai-Yazdi,
Senior Project Manager, New Reactor Licensing Branch, Division of New and Renewed Licenses, Office of Nuclear Reactor Regulation.

[FR Doc. 2023-19517 Filed 9-8-23; 8:45 am]

BILLING CODE 7590-01-P